DEPARTMENT OF HOMELAND SECURITY

Coast Guard

33 CFR Part 117

[Docket No. USCG-2017-0164]

Drawbridge Operation Regulation; Willamette River, Portland, OR

AGENCY: Coast Guard, DHS.

ACTION: Notice of deviation from drawbridge regulation; modification.

SUMMARY: The Coast Guard has modified a temporary deviation from the operating schedule that governs the Broadway Bridge across the Willamette River, mile 11.7, at Portland, OR. The modified deviation changes the period the bridge may operate the double bascule span one side at a time, single leaf, and reduce the vertical clearance to install and test new equipment.

DATES: This modified deviation is effective from 6 a.m. on August 16, 2017 to 6 p.m. on November 13, 2017.

ADDRESSES: The docket for this deviation, USCG-2017-0164, is available at http://www.regulations.gov. Type the docket number in the “SEARCH” box and click “SEARCH.” Click on Open Docket Folder on the line associated with this deviation.

FOR FURTHER INFORMATION CONTACT: If you have questions on this temporary deviation, call or email Mr. Danny McReynolds, Bridge Management Specialist, Thirteenth Coast Guard District; telephone 206-220-7234, email d13-pf-d13bridges@uscg.mil.

SUPPLEMENTARY INFORMATION: On March 15, 2017, the Coast Guard published a temporary deviation entitled “Drawbridge Operation Regulation; Willamette River, Portland, OR.” in the Federal Register (82 FR 13757). That temporary deviation, from 7 p.m. on May 26, 2017 to 6 a.m. on September 20, 2017, allows the bridge to operate the double bascule span one side at a time, single leaf, to install and test new equipment. The bridge owner, Multnomah County, has requested a modification of the currently published deviation to cancel the dates before August 15, 2017, and extend the dates from 6 a.m. on August 16, 2017 to 6 p.m. on September 20, 2017; and from 6 a.m. on October 9, 2017, to 6 p.m. on November 13, 2017, in order to complete installation and test new equipment after delays with work contracts to the bridge deck.

The Broadway Bridge crosses the Willamette River at mile 11.7, and provides 90 feet of vertical clearance above Columbia River Datum 0.0 while in the closed-to-navigation position, and provides 125 feet of horizontal clearance with half the span open. The subject bridge operates in accordance with 33 CFR 117.897. This modified deviation allows the double bascule span of the Broadway Bridge to operate in single leaf mode for marine traffic. The deviation period allows the drawspan to operate single leaf and reduce the vertical clearance of the non-functional span from 90 feet to 80 feet during these dates: from 6 a.m. on August 16, 2017 to 6 p.m. on September 20, 2017; and from 6 a.m. on October 9, 2017, to 6 p.m. on November 13, 2017. The bridge shall operate in accordance to 33 CFR 117.897 at all other times. Waterway usage on this part of the Willamette River includes vessels ranging from commercial tug and barge to small pleasure craft. We have coordinated with the majority of known waterway users and there were no objections to this schedule.

Vessels able to pass through the bridge in the closed positions may do so at any time. The bridge will be able to open in single leaf for emergencies, and there is no immediate alternate route for vessels to pass. The Coast Guard will also inform the users of the waterways through our Local and Broadcast Notices to Mariners of the change in operating schedule for the bridge so that vessels can arrange their transits to minimize any impact caused by the modified deviation.

In accordance with 33 CFR 117.35(e), the drawbridge must return to its regular operating schedule immediately at the end of the effective period of this temporary deviation. This deviation from the operating regulations is authorized under 33 CFR 117.35.

Dated: July 31, 2017.
Steven Michael Fischer,
Bridge Administrator, Thirteenth Coast Guard District.

[FR Doc. 2017-16424 Filed 8-3-17; 8:45 am]

BILLING CODE 9110-04-P